DEPARTMENT OF TRANSPORTATION

Federal Aviation Administration

Public Notice for a Change in Use of Aeronautical Property at St. Marys Municipal Airport, St. Marys, PA

AGENCY: Federal Aviation Administration (FAA), DOT.

ACTION: Request for public comment.

SUMMARY: The Federal Aviation Administration is requesting public comment on the City of St. Marys' request to change a portion 129.2 acres of airport property from aeronautical use to non-aeronautical use.

The requested release is for the purpose of permitting the Airport Owner to sell and convey title of 114.8 acres for industrial/commercial use. The parcel is located south and east of the newly constructed airport access road, and east of the existing “old RR Grade”. The property is currently undeveloped but aeronautical use is shown for it on the Airport Layout Plan. The tract currently consists of wooded land with some open fields and is more particularly described below.

The airport has also requested release for the purpose of developing a portion of airport property 14.4 acres as non-aeronautical use to generate revenue for the airport. The property is currently undeveloped but is now shown as aeronautical land use on the Airport Layout Plan. The tract is more particularly described below.

Documents reflecting the Sponsor's request are available, by appointment only, for inspection at the Airport Managers office and at the Pennsylvania Department of Transportation, Bureau of Aviation in the Keystone Building, Harrisburg, PA.

DATES: Comments must be received on or before March 26, 2008.

ADDRESSES: Documents are available for review at the Airport Manager's office: Joe Bologna, Manager, St Marys Municipal Airport, 119 Airport Rd., P.O. Box 89, St Marys, PA 15857, (814) 834-4671; and at the Pennsylvania Department of Transportation, Bureau of Aviation: Mr. Brian Gearhart, Engineering Manager, PaDOT Bureau of Aviation, 400 North St., Sixth Floor, Harrisburg, PA 17120, (717) 705-1260.

FOR FURTHER INFORMATION CONTACT: Mr. Brian Gearhart, Engineering Manager PaDOT Bureau of Aviation at the location listed above.

SUPPLEMENTARY INFORMATION: Section 125 of the Wendell H. Ford Aviation and Reform Act for the First Century (AIR-21) requires the FAA to provide an opportunity for public notice and comment before the Secretary may waive a sponsor's Federal obligation to use certain airport land for aeronautical use.

St. Marys Airport Land Release Parcel Description: The land to be released from airport property and federal obligation is generally described as follows. The property in question consists of a total 114.8 acres located south and east of the newly constructed airport access road, and east of the existing “old RR Grade”.

To ease location by the public, the 114.8 acres can be broken into a north and south area.

North Area to be Released: The north area includes 18.9 acres of property is bounded by the new airport access road to the north, Airport Road to the west, an old railroad grade to the south along with fields now or formerly owned by the Benzinger Township Camp Owners Association, and bounded on the east by the west side of the soccer field to remain airport property under a short-term lease.

South Area to be Released: The remaining south area to be released is east of the existing “old RR Grade''. It includes the wooded area starting at a point approximately 397 feet nearly due east of an old railroad grade and bounded on the west by the fields now or formerly owned by the Benzinger Township Camp Owners Association for a distance of approximately 4,380 feet. The southern border runs nearly due east for a distance of approximately 809 feet. The eastern border consists of a line running nearly due north through the wooded area for a distance of approximately 1957 feet, the eastern border then turns nearly due east for approximately 792 feet, then continues nearly due north for a distance of approximately 693 feet, then turns nearly due east for a distance of approximately 660 feet, then turns nearly due north for a distance of approximately 628 feet, then turns nearly due west for a distance of approximately 1226 feet in the wooded area adjacent to lands now or formerly owned by Charles Sritz and generally along the south edge of cultivated field now or formerly owned by Marshall V. Wolfe, then turns nearly due north along the west edge of the cultivated field for a distance of approximately 388 feet, then turns nearly due west along the wooded area to the east side of the community soccer field, then turns south along the east side of the community soccer field a distance of approximately 438 feet, then nearly due west along the southern side of the community soccer field a distance of approximately 572 feet to generally the northeast corner of the open fields now or formerly owned by the Benzinger Township Camp Owners Association for an area of 95.9 acres more or less.

St. Marys Airport Land Use Change Request Parcel Description: In addition, the airport has requested a change in land use of two areas from “aeronautical use” to “non-aeronautical”. The two areas will remain airport property and are generally along the south side of the existing airfield.

Western Portion of the Land Use Change: Starting at the NE corner of the intersection of Airport Road and the new airport access road, then northerly along Airport Road for a distance of approximately 374 feet, then nearly due east a distance of approximately 1,229 feet to near the west side of the existing tee hangar area, then nearly due south a distance of 374 feet, then westerly along the north side of the new airport access road back to the NE corner of Airport Road and said new airport access road for an area of 10.3 acres more or less.

Eastern Portion of the Land Use Change: Starting at the NE corner of the intersection of Airport Road and the new airport access road, then easterly along Airport Road for a distance of approximately 2,189 feet to the point of beginning being the northeast corner of the eastern parcel on which the airport is requesting a change in land use. Then nearly due south along the farm fence a distance of 438 feet, then nearly due west a distance of 412 feet, then nearly due north a distance of 438 feet, then nearly due east along what would be the north right of way line of the new airport road if extended, a distance of 410 feet back to the point of beginning. Said area containing 4.1 acres more or less.

The parcel was acquired without Federal participation. The requested release is for the purpose of both permitting the Sponsor to sell and convey title, and to develop as non-aeronautical the areas described above. The proceeds from the sale of property are to be used for the capital and operating costs of the airport.

Interested persons are invited to comment on the proposed release from obligations. All comments will be considered by the FAA to the extent practicable.

Issued in Camp Hill, Pennsylvania, February 19, 2008.
Lori K. Pagnanelli,
Manager, Harrisburg Airports District Office.

[FR Doc. E8-3528 Filed 2-22-08; 8:45 am]

BILLING CODE 4910-13-P